DEPARTMENT OF ENERGY

Federal Energy Regulatory Commission

Notice of Amendment of License and Soliciting Comments, Motions To Intervene, and Protests

June 19, 2001.

Take notice that the following hydroelectric application has been filed with the Commission and is available for public inspection:

a. Application Type: Amendment of License.

b. Project No.: 2030-035.

c. Date Filed: June 19, 2001.

d. Applicant: Portland General Electric Company (PGE).

e. Name of Project: Pelton Round Butte Hydroelectric Project.

f. Location: The Pelton Round Butte Hydroelectric Project is located on the Deschutes River in Jefferson, Marion, and Wasco Counties, Oregon. The project occupies lands of the Deschutes National Forest; Mt Hood National Forest; Willamette National Forest; Crooked River National Grassland; Bureau of Land Management; and tribal lands of the Warm Springs Reservation of Oregon.

g. Filed Pursuant to: Federal Power Act, 16 U.S.C. 791(a)-825(r).

h. Applicant Contact: Julie Keil, Director of Hydro Licensing and Water Rights, Portland General Electric Company, 121 SW Salmon Street, 3WTC-BRHL, Portland, OR 97204, (503) 464-8864.

i. FERC Contact: Questions about this notice can be answered by Nan Allen at (202) 219-2938 or e-mail address: nan.allen@ferc.fed.us. The Commission cannot accept comments, recommendations, motions to intervene or protests sent by e-mail; these documents must be filed as described below.

j. Deadline for filing comments, motions to intervene, and protests: 14 days from the issuance date of this notice.

All documents (original and eight copies) should be filed with: David P. Boergers, Secretary, Federal Energy Regulatory Commission, 888 First Street, NE., Washington, DC 20426. Comments, protests and interventions may be filed electronically via the internet in lieu of paper. See 18 CFR 385.2001(a)(1)(iii) and the instructions on the Commission's web site at http://www.ferc.fed.us/efi/doorbell.htm.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Description of Filing: PGE has filed a request to amend the project license to permit installation of a 70-kilowatt generating unit on the west grout tunnel at the Round Butte development. This tunnel drains ground water from the dam area and provides a steady flow of about 24 cfs at about 55 feet of head. PGE proposes to use generation from this unit for station service, allowing additional project generation to be delivered to PGE's system. PGE's analysis shows that the additional generation would be about 382 megawatt hours annually. In its request, PGE said that the unit would be fabricated offsite and all onsite installation would be completed out of water. Other generating units in the powerhouse would operate normally during installation.

l. A copy of the application is available for inspection and reproduction at the Commission's Public Reference Room at 888 First Street NE., Room 2A, Washington, DC 20426, or by calling (202) 208-1371. The application may be viewed on the web at http://www.ferc.fed.us/online/rims.htm. Call (202) 208-2222 for assistance. A copy is also available for inspection and reproduction at the address in item (h) above.

m. Individuals desiring to be included on the Commission's mailing list should so indicate by writing to the Secretary of the Commission.

Anyone may submit comments, a protest, or a motion to intervene in accordance with the requirements of Rules of Practice and Procedure, 18 CFR 385.210, .211, .214. In determining the appropriate action to take, the Commission will consider all protests or other comments filed, but only those who file a motion to intervene in accordance with the Commission's Rules may be become a party to the proceeding. Any comments, protests, or motions to intervene must be received on or before the specified comment date for the particular application.

Any filings must bear in all capital letters the title “COMMENTS,” “RECOMMENDATIONS FOR TERMS AND CONDITIONS,” “PROTEST,” or “MOTION TO INTERVENE,” as applicable, and the Project Number of the particular application to which the filing refers. A copy of any motion to intervene must also be served upon each representative of the Applicant specified in the particular application.

Federal, state, and local agencies are invited to file comments on the described application. A copy of the application may be obtained by agencies directly from the applicant. If an agency does not file comments within the time specified for filing comments, it will be presumed to have no comments. One copy of an agency's comments must also be sent to the Applicant's representatives.

Linwood A. Watson, Jr.,
Acting Secretary.

[FR Doc. 01-15954 Filed 6-25-01; 8:45 am]

BILLING CODE 6717-01-M